DEPARTMENT OF ENERGY

Federal Energy Regulatory Commission

[Docket No. PF08-34-000]

Questar Overthrust Pipeline Company; Notice of Intent To Prepare an Environmental Assessment for the Proposed Point of Rocks and Rock Springs Compression Expansion Project and Request for Comments on Environmental Issues

December 17, 2008.

The staff of the Federal Energy Regulatory Commission (FERC or Commission) will prepare an environmental assessment (EA) that will identify and address the potential environmental impacts that could result from the construction and operation of the Point of Rocks and Rock Springs Compression Expansion Project (Compression Expansion Project) planned by Questar Overthrust Pipeline Company (Overthrust). The EA will be used by the Commission in its decision-making process to determine whether the project is in the public convenience and necessity.

This notice announces the opening of the scoping process the Commission will use to gather input from the public and interested agencies on the project. Your input will help determine which issues need to be evaluated in the EA. Please note that the scoping period will close on January 23, 2009. Details on how to submit comments are provided in the Public Participation section of this notice.

This notice is being sent to affected landowners; federal, state, and local government agencies; elected officials; Native American groups; other interested parties; and local libraries and newspapers. State and local government representatives are asked to notify their constituents of this planned project and to encourage them to comment on their areas of concern.

As a landowner receiving this notice, you may be contacted by an Overthrust representative about the acquisition of an easement to construct, operate, and maintain the project facilities. The pipeline company would seek to negotiate a mutually acceptable agreement. However, if the project is approved by the FERC, that approval conveys with it the right of eminent domain. Therefore, if easement negotiations fail to produce an agreement, the pipeline company could initiate condemnation proceedings in accordance with federal or state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Project

The planned project consists of construction and operation of a new Point of Rocks Compressor Station and expansion of Overthrust's existing Rock Springs Compressor Station, all in Sweetwater County, Wyoming. Overthrust would install one 16,000-horsepower compressor unit at each station. The planned facilities would provide an additional 320,000 dekatherms per day of capacity from Opal, Wyoming, eastward to an interconnect with the Rockies Express Pipeline system at Wamsutter, Wyoming.

The existing Rock Springs Compressor Station is sited on 5.9 acres of land administered by the Bureau of Land Management (BLM), Rock Springs Field Office. Here, the new compressor unit would be installed within an existing compressor building. Construction at the Rock Springs Compressor Station would take place entirely within the existing fenced station site. The Point of Rocks Compressor Station would be located on a 550-foot by 600-foot site, totaling 7.6 acres on property owned by the BLM and one private landowner. Anadarko Land Corporation owns about 70 percent of the 7.6 acres and the BLM, Rock Springs Field Office manages the remaining 30 percent of the planned site. About 1,000 feet of an existing 10-foot-wide dirt road would be improved in order to provide access to the new compressor station.

The general location of the planned facilities is shown in appendix A.¹

¹ The appendices referenced in this notice are not being printed in the Federal Register. Copies of all appendices are available on the Commission's Web site at the “eLibrary” link or from the Commission's Public Reference Room, 888 First Street, NE., Washington, DC 20426, or call (202) 502-8371. For instructions on connecting to eLibrary, refer to the “Additional Information” section of this notice. Copies of the appendices were sent to all those receiving this notice in the mail. Requests for detailed maps of the planned facilities should be made directly to Overthrust.

The EA Process

We ² are preparing this EA to comply with the National Environmental Policy Act of 1969 (NEPA) which requires the Commission to take into account the environmental impact that could result if it authorizes Overthrust's proposal. By this notice, we are also asking federal, state, and local agencies with jurisdiction and/or special expertise with respect to environmental issues to formally cooperate with us in the preparation of the EA. Agencies that would like to request cooperating status should follow the instructions for filing comments provided below.

² ”We,” “us,” and “our” refer to the environmental staff of the FERC's Office of Energy Projects.

NEPA also requires the FERC to discover and address concerns the public may have about the proposal. This process is referred to as “scoping”. The main goal of the scoping process is to focus the analysis in the EA on the important environmental issues. By this notice, we are requesting public comments on the scope of the issues to address in the EA. All comments received will be considered during the preparation of the EA.

The EA will discuss impacts that could occur as a result of the construction and operation of the project under these general headings:

• Geology and Soils.

• Land Use and Visual Quality.

• Cultural Resources.

• Vegetation and Wildlife (Including Threatened and Endangered Species).

• Air Quality and Noise.

• Reliability and Safety.

We will also evaluate possible alternatives to the project or portions of the project, where necessary, and make recommendations on how to lessen or avoid impacts on the various resources.

Our independent analysis of the issues will be presented in the EA. Depending on the comments received during the scoping process, the EA may be published and mailed to federal, state, and local agencies; public interest groups; Native American groups; interested individuals; local newspapers and libraries; and the Commission's official service list for this proceeding. A comment period will be allotted for review if the EA is published. We will consider all comments on the EA before we make our recommendations to the Commission.

To ensure your comments are considered, please carefully follow the instructions in the “Public Participation” section below.

Public Participation

You can make a difference by providing us with your specific comments or concerns about the project. Your comments should focus on the potential environmental effects of the proposal, reasonable alternatives, and measures to avoid or lessen environmental impact. The more specific your comments, the more useful they will be. To ensure that your comments are timely and properly recorded, please send in your comments so that they will be received in Washington, DC, on or before January 23, 2009.

For your convenience, there are three methods which you can use to submit your comments to the Commission. In all instances, please reference the project docket number with your submission. The docket number can be found on the front of this notice. The Commission encourages electronic filing of comments and has dedicated eFiling expert staff available to assist you at (202) 502-8258 or eFiling@ferc.gov.

(1) You may file your comments electronically by using the Quick Comment feature, which is located on the Commission's Internet Web site at http://www.ferc.gov under the link to Documents and Filings. A Quick Comment is an easy method for interested persons to submit text-only comments on a project.

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing.”

(3) You may file your comments with the Commission via mail by sending an original and two copies of your letter to: Kimberly D. Bose, Secretary, Federal Energy Regulatory Commission, 888 First Street, NE., Room 1A, Washington, DC 20426.

• Label one copy of the comments for the attention of Gas Branch 1, PJ-11.1, and

• Reference Docket No. PF08-34-000 on the original and both copies.

Environmental Mailing List

As described above, we may publish and distribute the EA for comment. If the EA is published and you are interested in receiving it, please return the Environmental Mailing List Form (appendix B). All individuals who either return the Environmental Mailing List Form or provide written scoping comments will remain on our environmental mailing list for this project. If you do not return the Environmental Mailing List Form or file comments, you will be taken off the mailing list.

Additional Information

Once Overthrust formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Additional information about the project is available from the Commission's Office of External Affairs, at 1-866-208-FERC or on the FERC Internet Web site (http://www.ferc.gov) using the “eLibrary” link. Click on the eLibrary link, then on “General Search” and enter the docket number excluding the last three digits (i.e., PF08-34) in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Finally, any public meetings or site visits will be posted on the Commission's calendar located at http://www.ferc.gov/EventCalendar/EventsList.aspx along with other related information. You can also request additional information by calling Overthrust at 1-800-366-8532.

Kimberly D. Bose,
Secretary.

[FR Doc. E8-30566 Filed 12-23-08; 8:45 am]

BILLING CODE 6717-01-P